DEPARTMENT OF ENERGY

Federal Energy Regulatory Commission

Combined Notice of Filings #2

Take notice that the Commission received the following electric rate filings:

Docket Numbers: ER10-2249-005.

Applicants: Portland General Electric Company.

Description: Triennial Market Power Analysis in the Northwest Region for Portland General Electric Company.

Filed Date: 6/30/16.

Accession Number: 20160630-5443.

Comments Due: 5 p.m. ET 8/29/16.

Docket Numbers: ER10-2374-012; ER10-1533-013.

Applicants: Puget Sound Energy, Inc., Macquarie Energy LLC.

Description: Updated Market Power Analysis for the Northwest Region of Puget Sound Energy, Inc., et al.

Filed Date: 6/30/16.

Accession Number: 20160630-5437.

Comments Due: 5 p.m. ET 8/29/16.

Docket Numbers: ER10-2822-009; ER16-1238-001; ER16-1250-001; ER10-3158-007; ER12-308-007; ER10-3162-007; ER10-3161-007.

Applicants: Atlantic Renewable Projects II LLC, Avangrid Arizona Renewables, LLC, Avangrid Renewables, LLC, Dillon Wind LLC, Manzana Wind LLC, Mountain View Power Partners III, LLC, Shiloh I Wind Project, LLC.

Description: Updated Market Power Analysis for the Southwest Region of Atlantic Renewable Projects II LLC, et al.

Filed Date: 6/30/16.

Accession Number: 20160630-5439.

Comments Due: 5 p.m. ET 8/29/16.

Docket Numbers: ER11-4436-003; ER10-2473-004; ER10-2502-004; ER10-2472-004; ER11-2724-005.

Applicants: Black Hills Power, Inc., Cheyenne Light, Fuel & Power Company, Black Hills/Colorado Electric Utility Company, Black Hills Wyoming, LLC, Black Hills Colorado IPP, LLC.

Description: Updated Market Power Analysis of the Black Hills MBR Sellers for the Northwest Region.

Filed Date: 6/30/16.

Accession Number: 20160630-5441.

Comments Due: 5 p.m. ET 8/29/16.

Docket Numbers: ER15-632-004; ER15-634-004; ER14-2466-005; ER14-2465-005; ER14-2939-003; ER15-2728-004.

Applicants: CID Solar, LLC, Cottonwood Solar, LLC, RE Camelot LLC, RE Columbia Two LLC, Imperial Valley Solar Company (IVSC) 2, LLC, Maricopa West Solar PV, LLC.

Description: Triennial Market Power Analysis for the Southwest Region of CID Solar, LLC, et al.

Filed Date: 6/30/16.

Accession Number: 20160630-5440.

Comments Due: 5 p.m. ET 8/29/16.

Docket Numbers: ER16-1707-001.

Applicants: Upper Peninsula Power Company.

Description: Tariff Amendment: Amended and Restated Project Service Agreement to be effective 9/3/2016.

Filed Date: 7/5/16.

Accession Number: 20160705-5128.

Comments Due: 5 p.m. ET 7/26/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 5, 2016.
Nathaniel J. Davis, Sr.,
Deputy Secretary.

[FR Doc. 2016-16341 Filed 7-8-16; 8:45 am]

BILLING CODE 6717-01-P